FEDERAL DEPOSIT INSURANCE CORPORATION

Agency Information Collection Activities: Renewal of Currently Approved Collection (3064-0137); Submission for OMB Review; Comment Request

AGENCY: Federal Deposit Insurance Corporation (FDIC).

ACTION: Notice of information collection to be submitted to OMB for review and approval under the Paperwork Reduction Act, and Request for Comment.

SUMMARY: In accordance with requirements of the Paperwork Reduction Act of 1995 (44 U.S.C. 3501 et seq.), the FDIC may not conduct or sponsor, and the respondent is not required to respond to, an information collection unless it displays a currently valid Office of Management and Budget (OMB) control number. The FDIC, as part of its continuing effort to reduce paperwork and respondent burden, invites the general public and other Federal agencies to take this opportunity to comment on the renewal of an existing information collection, as required by the PRA. On July 1, 2010 (75 FR 38095), the FDIC solicited public comment for a 60-day period on renewal of the following information collection: Interagency Guidance on Asset Securitization Activities. (OMB No. 3064-0137). No comments were received. Therefore, the FDIC hereby gives notice of its submission of its request for renewal to OMB for review.

DATES: Comments must be submitted on or before October 21, 2010.

ADDRESSES: Interested parties are invited to submit written comments. All comments should refer to the name of the collection. Comments may be submitted by any of the following methods:

• http://www.FDIC.gov/regulations/laws/federal/notices.html.

• E-mail: comments@fdic.gov Include the name of the collection in the subject line of the message.

• Mail: Gary A. Kuiper (202.898.3877), Counsel, Federal Deposit Insurance Corporation, F-1086, 550 17th Street, NW., Washington, DC 20429.

• Hand Delivery: Comments may be hand-delivered to the guard station at the rear of the 550 17th Street, Building (located on F Street), on business days between 7 a.m. and 5 p.m.

A copy of the comments may also be submitted to the FDIC Desk Officer, Office of Information and Regulatory Affairs, Office of Management and Budget, New Executive Office Building, Washington, DC 20503.

FOR FURTHER INFORMATION CONTACT: Gary A. Kuiper at the FDIC address above.

SUPPLEMENTARY INFORMATION: The FDIC is proposing to renew this collection:

Title: Interagency Guidance on Asset Securitization Activities.

OMB Number: 3064-0137.

Form Number: None.

Frequency of Response: On occasion.

Affected Public: Insured state nonmember banks involved in asset securitization activities.

Estimated Number of Responses: 20.

Estimated Time per Response: 7.45 hours.

Total Annual Burden: 149 hours.

General Description of Collection: The collection applies to institutions engaged in asset securitization and consists in recordkeeping requirements associated with developing or upgrading a written asset securitization policy, documenting fair value of retained interests, and a management information system to monitor securitization activities. Bank managements use this information as the basis for the safe and sound operation of their asset securitization activities and to ensure that they minimize operational risk in these activities. The FDIC uses the information to evaluate the quality of an institution's risk management practices, and to assist institutions without proper internal supervision of their asset securitization activities to implement corrective action to conduct these activities in a safe and sound manner.

Request for Comment

Comments are invited on: (a) Whether these collections of information are necessary for the proper performance of the FDIC's functions, including whether the information has practical utility; (b) the accuracy of the estimate of the burdens of the information collections, including the validity of the methodology and assumptions used; (c) ways to enhance the quality, utility, and clarity of the information to be collected; and (d) ways to minimize the burden of the information collections on respondents, including through the use of automated collection techniques or other forms of information technology. All comments will become a matter of public record.

Dated at Washington, DC, this 16th day of September, 2010.
Federal Deposit Insurance Corporation.
Robert E. Feldman,
Executive Secretary.

[FR Doc. 2010-23505 Filed 9-20-10; 8:45 am]

BILLING CODE 6714-01-P